SECURITIES AND EXCHANGE COMMISSION

[Release No. 34-42365A; File No. SR-Phlx-99-46]

Self-Regulatory Organizations; Notice of Filing of Proposed Rule Change by the Philadelphia Stock Exchange, Inc. Relating to Registration of Trading Floor Personnel

March 7, 2000.

In FR Document No. 00-2634, on page 5923 for Monday, February 7, 2000, Column 1, the second line of the text of proposed Phlx Rule 620 was incorrectly stated. The words “Each Floor Broker, Specialist and” should appear prior to “Registered Options Trader.” Thus, the first portion of the rule should read as follows: “(a) Trading Floor Member Registration—Each Floor Broker, Specialist and Registered Options Trader on any Exchange trading floor must register * * *”

Jonathan G. Katz,
Secretary.

[FR Doc. 00-6006 Filed 3-10-00; 8:45 am]

BILLING CODE 8010-01-M